FEDERAL EMERGENCY MANAGEMENT AGENCY

Compendium of Flood Map Changes

AGENCY: Federal Emergency Management Agency (FEMA).

ACTION: Correction notice.

SUMMARY: This Correction Notice provides a listing of the changes to National Flood Insurance Program (NFIP) maps made by FEMA during the first 6 months of 2001 that were inadvertently omitted from the Compendium of Flood Map Changes issued in August 2001.

DATES: The listing provided in this Correction Notice includes changes to NFIP maps that became effective January 1, 2001, through June 30, 2001.

FOR FURTHER INFORMATION CONTACT: Michael K. Buckley, P.E., Director, Hazard Mapping Division, Federal Insurance and Mitigation Administration, FEMA, Washington, DC 20472, (202)646-2756.

SUPPLEMENTARY INFORMATION: In accordance with Paragraph 1360(i) of the National Flood Insurance Reform Act of 1994, on August 28, 2001, we published a Notice in the Federal Register to inform interested parties of changes made by FEMA to NFIP maps. The two listings provided in that Notice showed communities affected by map changes made by letter and communities affected by physical map changes. We recently determined that some changes to NFIP maps made by FEMA during this period were inadvertently omitted from the August 28 Federal Register Notice. We are publishing this Correction Notice to inform all interested parties about the omitted map changes. As in the August 28 Federal Register Notice, a Map Revision listing is provided. For each physical map change, the Map Revision listing provides the map panel(s) affected and the effective date of the change. The listing also identifies: (1) those panels on which the Special Flood Hazard Areas have not been changed or have been changed only to incorporate the Letters of Map Change issued before the effective date; and (2) those panels for which a Flood Insurance Rate Map is produced for the first time, resulting only in changes to flood insurance and floodplain management requirements in the affected community.

Dated: April 29, 2002.
Robert F. Shea,
Acting Administrator, Federal Insurance and Mitigation Administration.

The Map Revision listing below includes those map panels that FEMA physically revised and republished from January 1 through June 30, 2001, that were omitted from the Federal Register Notice published on August 28, 2001. For those map panels on which the Special Flood Hazard Areas have not been changed or have been changed only to incorporate Letters of Map Change issued before the effective date, two asterisks (**) are shown to the right of the map panel number. For those map panels for which a Flood Insurance Rate Map is produced for the first time, resulting only in changes to flood insurance and floodplain management requirements in the affected community, three asterisks (***) are shown to the right of the map panel number. A single asterisk (*) is shown to the right of each county name that appears in the ”Community” column. This asterisk indicates the area covered is the unincorporated areas of that county.

Region | State | Community | Panel | Panel date
07 | IA | BEACON, CITY OF | 190452 A*** | 01-MAR-2001
07 | IA | GRAY, CITY OF | 190318 B | 02-APR-2001
07 | IA | JEWELL, CITY OF | 190600 A*** | 01-MAR-2001
07 | KS | HOXIE, CITY OF | 200508 A*** | 01-MAR-2001
07 | MO | BATES COUNTY * | 2907860001B*** | 01-MAR-2001
07 | MO | BATES COUNTY * | 2907860002B*** | 01-MAR-2001
07 | MO | BATES COUNTY * | 2907860003B*** | 01-MAR-2001
07 | MO | BATES COUNTY * | 2907860004B*** | 01-MAR-2001
07 | MO | BATES COUNTY * | 2907860005B*** | 01-MAR-2001
07 | MO | BATES COUNTY * | 2907860006B*** | 01-MAR-2001
07 | MO | BATES COUNTY * | 2907860007B*** | 01-MAR-2001
07 | MO | BATES COUNTY * | 2907860008B*** | 01-MAR-2001
07 | MO | BATES COUNTY * | 2907860009B*** | 01-MAR-2001
07 | MO | BATES COUNTY * | 2907860010B*** | 01-MAR-2001
07 | MO | BATES COUNTY * | 2907860011B*** | 01-MAR-2001
07 | MO | BATES COUNTY * | 2907860012B*** | 01-MAR-2001
07 | MO | BATES COUNTY * | 290786IND0*** | 01-MAR-2001
07 | MO | HOLDEN, CITY OF | 290714 A*** | 01-MAR-2001
07 | MO | IRONDALE, TOWN OF | 290446 B | 02-APR-2001
07 | NE | BURWELL, CITY OF | 310354 A | 02-APR-2001
07 | NE | BUSHNELL, VILLAGE OF | 310255 A | 02-APR-2001
07 | NE | CAMPBELL, VILLAGE OF | 310256 A*** | 01-MAR-2001
07 | NE | GUIDE ROCK, VILLAGE OF | 310234 A*** | 01-MAR-2001
07 | NE | RIVERTON, VILLAGE OF | 310084 A*** | 01-MAR-2001
07 | NE | TABLE ROCK, VILLAGE OF | 310172 B | 02-APR-2001

[FR Doc. 02-11254 Filed 5-6-02; 8:45 am]

BILLING CODE 6718-04-P